DEPARTMENT OF HEALTH AND HUMAN SERVICES

National Institutes of Health

National Institute on Aging; Amended Notice of Meeting

Notice is hereby given of a change in the meeting of the National Advisory Council on Aging, January 23, 2018, 3:00 p.m. to January 24, 2018, 2:00 p.m., National Institutes of Health, Building 31, C Wing 6th Floor Conference Room 10, 9000 Rockville Pike, Bethesda, MD, 20892 which was published in the Federal Register on December 11, 2017, 82 FR 58212.

Because of the strong possibility that the government would be shut down during the scheduled council date, rescheduling would have been very difficult due to the very tight timing of initiatives whose concepts were expected to be approved at January council. NIA had arranged for Notices of their availability to be published by early February for April 17 deadline (for FY 2018 award). The institute made the decision to hold an abbreviated council via teleconference on Friday January 19th, prior to the midnight deadline to keep the government open. They were counseled to post this information on their IC website. The meeting is closed to the public.

Dated: January 25, 2018.
Melanie J. Pantoja,
Program Analyst, Office of Federal Advisory Committee Policy.

[FR Doc. 2018-01823 Filed 1-30-18; 8:45 am]

BILLING CODE 4140-01-P